DEPARTMENT OF TRANSPORTATION

Federal Transit Administration (FTA)

Announcement of Fiscal Year 2025 Grants for Buses and Bus Facilities Program and Fiscal Year 2025 and 2026 Low or No Emission Program Project Selections

AGENCY: Federal Transit Administration (FTA), Department of Transportation (DOT).

ACTION: Notice of project selections and implementation guidance.

SUMMARY: The U.S. Department of Transportation's (DOT) Federal Transit Administration (FTA) announces the award of a total of $2,027,948,082 for 165 projects. This includes $397,665,476 under the FY 2025 Grants for Buses and Bus Facilities Competitive Program (Bus Competitive Program) for 62 projects and $1,630,282,606 under the FY 2025 Low or No Emission (Low-No) Grants Program for 103 projects. This notice provides administrative guidance on project implementation.

FOR FURTHER INFORMATION CONTACT: Successful applicants should contact the appropriate FTA Regional Office for information regarding applying for the funds or program-specific information. A list of Regional Offices can be found at https://www.transit.dot.gov/about/regional-offices/regional-offices. Unsuccessful applicants may contact Kirsten Wiard-Bauer, Office of Program Management, at ftalownobusnofo@dot.gov or (202) 366-2053 within 30 days of this announcement to arrange a proposal debriefing. Some unsuccessful applicants, such as those who received an overall rating of Highly Recommended or Ineligible, may receive feedback only via email. A TDD is available at 1-800-877-8339 (TDD/FIRS).

SUPPLEMENTARY INFORMATION: Federal public transportation law (49 U.S.C. 5339(b)) authorizes FTA to make competitive grants for the Bus Competitive Program. Federal public transportation law (49 U.S.C. 5339(c)) authorizes FTA to make competitive grants for the Low-No Program.

Federal public transportation law (49 U.S.C. 5338(a)(2)(M)) authorized $398,103,239 in FY 2025 funds for the Bus Competitive Program after an oversight takedown. After the addition of available prior year funding, the total available funding for the Bus Program in FY 2025 is $399,330,754.

For FY 2025, $76,512,334 was authorized and appropriated for the FY 2025 Low-No Program, and the Infrastructure Investment and Jobs Act (IIJA, Pub. L. 117-58) appropriated an additional $1,029,000,000 after accounting for the authorized takedown for administrative and oversight expenses and the Office of Inspector General (OIG). For FY 2026, $1,029,000,000 is appropriated under the IIJA for the Low-No Program. After the oversight takedown and transfer to the OIG, and the addition of prior year(s) funding, the total available funding for the Low-No Program is $2,140,796,484.

On May 15, 2025, FTA published a joint Notice of Funding Opportunity (NOFO) announcing the availability of approximately $398 million in FY 2025 Bus Competitive Program funds and approximately $1.10 billion in Low-No Program funds (90 FR 20737). Consistent with the NOFO, which stated that FTA “may award additional funding that is made available to the programs prior to the announcement of project selections,” FTA is electing to allocate a portion of the appropriated FY 2026 Low-No Program funds, as well as available prior year funds for both programs. These funds will provide financial assistance to states and eligible public agencies to replace, rehabilitate, purchase, or lease buses, vans, and related equipment, and for capital projects to rehabilitate, purchase, construct, or lease bus-related facilities. For the Low-No Program, projects must be directly related to low or no-emission vehicles. In response to the NOFO, FTA received 479 eligible project proposals requesting approximately $6.8 billion in Federal funds. Project proposals were evaluated based on each applicant's responsiveness to the program evaluation criteria outlined in the NOFO.

Based on the criteria in the NOFO, FTA is funding 62 projects, as shown in Table 1, for a total of $397,665,476 for the Bus Competitive Program, and 103 projects, as shown in Table 2, for a total of $1,630,282,606 for the Low-No Program. A minimum of 15 percent of the amount made available for the Bus Competitive Program is set aside for projects located in rural areas, which is reflected in FTA's selections. A statutory cap of 10 percent for any one applicant in the Bus Competitive Program is reflected as well. A minimum of 25 percent of the amount made available for the Low-No Program is set aside for projects related to the acquisition of low-emission buses or bus facilities.

Recipients selected for competitive funding are required to work with their FTA Regional Office to submit a grant application in FTA's Transit Award Management System (TrAMS) for the projects identified in the attached tables to quickly obligate funds. A discretionary project identification number has been assigned to each project for tracking purposes and must be used in the TrAMS application. Grant applications must include only eligible activities applied for in the original project application.

When the allocated amount is less than the requested amount, recipients must reduce scope or scale the project so that a complete phase or a usable segment of the originally proposed project is implemented. Amounts may be reduced because they were capped or scaled due to more funding being requested than available, ineligible expenses may have been removed from the funded project scope, or funding was allocated for only the low-emission elements of a mixed-emission project. In all such cases where the amount allocated is less than the amount requested, the recipient should work with its Regional Office to reduce the scope appropriately. Recipients may also provide additional local funds to complete a proposed project.

Selected projects are eligible to incur costs under pre-award authority no earlier than November 20, 2025. Pre-award costs are incurred at your own risk, and the announcement that a project was selected does not guarantee that FTA will, in fact, obligate a grant for the funding. FTA is not required to reimburse pre-award costs if you do not receive an obligated grant or if the obligated grant is less than anticipated and is inadequate to cover all pre-award costs. Eligibility for reimbursement is contingent upon planning and environmental requirements having been met, among other factors. For more about FTA's policy on pre-award authority, please see the current FTA Apportionments, Allocations, and Program Information at https://www.transit.dot.gov/funding/apportionments.

Post-award reporting requirements include submission of Federal Financial Reports and Milestone Progress Reports in TrAMS (see FTA Circular 5010.1F). Recipients must comply with all applicable Federal statutes, regulations, executive orders, FTA circulars, and other Federal requirements in carrying out the project supported by the FTA grant. FTA emphasizes that recipients must follow all third-party procurement requirements set forth in Federal public transportation law (49 U.S.C. 5325(a)) and described in the FTA Third Party Contracting Guidance Circular (FTA Circular 4220.1G).

Funds allocated in this announcement must be obligated in a grant by September 30, 2029.

Technical Review and Evaluation Summary: The FTA assessed all project proposals that were submitted under the FY 2025 Buses and Bus Facilities Program and the Low-No Program competition according to the following evaluation criteria. The specific metrics for each criterion were described in the May 2025 NOFO:

1. Demonstration of Need

2. Demonstration of Benefits

3. Planning/Local Prioritization

4. Local Financial Commitment

5. Project Implementation Strategy

6. Technical, Legal, and Financial Capacity

For each project, a technical review panel assigned a rating of Highly Recommended, Recommended, or Not Recommended for each of the six criteria. The technical review panel then assigned an overall rating of Highly Recommended, Recommended, Not Recommended, or Ineligible to the project proposal.

FTA also used a streamlined application for tribal applicants requesting less than $1 million in order to reduce the burden of application for tribes with smaller requests and encourage more tribal applications. Such applicants were only required to provide a full response to Demonstration of Need and Local Financial Commitment, and a shortened response to Project Implementation Strategy. Tribes with requests of less than $1 million had to meet statutory requirements, such as attaching a fleet transition plan to zero-emission applications, but did not need to provide responses related to any Administration priorities.

Projects were assigned a final overall rating of Highly Recommended if they were rated Highly Recommended in at least four categories overall, with no Not Recommended ratings. Projects were assigned a final overall rating of Recommended if the projects had three or more Recommended ratings and no Not Recommended ratings. Projects were assigned a rating of Not Recommended if they received a Not Recommended rating in any criteria. A summary of the final overall ratings for all 479 eligible project proposals is shown in the table below.

Overall Project Ratings (eligible submissions):

| Bus | Low-No | Total
Highly Recommended | 223 | 131 | 354
Recommended | 30 | 21 | 51
Not Recommended | 47 | 27 | 74
Total | 300 | 179 | 479

Consistent with the NOFO, FTA made the final selections based on the technical ratings as well as geographic diversity; diversity in the size of transit systems receiving funding; vehicle propulsion type; and additional considerations/administration priorities including benefits to Opportunity Zones, intent to use cost-effective vehicle procurements, intent to use terms to strengthen the U.S. vehicle manufacturing industry, benefits to families and communities, and commitment to Buy America domestic preference standards.

Marcus J. Molinaro,
Administrator.

Table 1—FY 2025 Buses and Bus Facilities Project Selections
[Note: Some projects have multiple project IDs.]
State | Recipient | Project ID | Project description | Award
AK | Kenaitze Indian Tribe | D2026-BUSC-001 | Rehabilitate a bus facility | $654,272
AL | Poarch Band of Creek Indians | D2026-BUSC-002 | Purchase replacement buses and construct transportation hub | 1,939,904
AR | University of Arkansas—Fayetteville | D2026-BUSC-003 and D2026-BUSC-004 | Purchase replacement and expansion buses | 13,175,000
AZ | Northern Arizona Intergovernmental Public Transportation Authority | D2026-BUSC-005 | Rehabilitate bus stops | 3,207,678
CA | California Department of Transportation obo Eastern Sierra Transit Authority | D2026-BUSC-006 | Construct an operations and administration facility | 3,044,961
CA | California Department of Transportation obo Eastern Sierra Transit Authority | D2026-BUSC-007 | Purchase replacement buses | 7,978,159
CA | California Department of Transportation obo Humboldt Transit Authority | D2026-BUSC-008 | Purchase replacement buses | 2,394,000
CA | Eastern Contra Costa Transit Authority | D2026-BUSC-009 | Rehabilitate operations facility | 2,400,000
CA | Santa Cruz Metropolitan Transit District | D2026-BUSC-010 | Purchase replacement and expansion buses | 1,152,000
CA | Yuba-Sutter Transit Authority | D2026-BUSC-011 and D2026-BUSC-012 | Construct an administration, operations, and maintenance facility | 12,714,902
CO | Colorado Department of Transportation obo Eagle Valley Transportation Authority | D2026-BUSC-013 | Construct and rehabilitate bus stops | 1,060,000
CO | Colorado Department of Transportation obo Gunnison Valley Transportation Authority (GVRTA) | D2026-BUSC-014 | Purchase replacement bus | 768,557
CO | Colorado Department of Transportation obo Miguel Authority for Regional Transportation (SMART) | D2026-BUSC-015 | Purchase replacement buses | 534,108
CO | Colorado Department of Transportation obo Mountain Express (MX) | D2026-BUSC-016 | Construct bus storage, maintenance, and operations facility | 14,400,000
CO | Colorado Department of Transportation obo Mountain Express (MX) | D2026-BUSC-017 | Purchase replacement buses | 256,000
CO | Colorado Department of Transportation obo The Roaring Fork Transportation Authority (RFTA) | D2026-BUSC-018 | Purchase replacement buses | 6,745,942
CO | Colorado Department of Transportation obo Town of Winter Park | D2026-BUSC-019 | Rehabilitate maintenance facility | 1,056,120
FL | Lakeland Area Mass Transit District dba Citrus Connection | D2026-BUSC-020 | Rehabilitate maintenance and administration facilities and purchase equipment | 1,104,080
IA | Ames Transit Agency dba CyRide | D2026-BUSC-021 | Rehabilitate and convert buses to biodiesel, and expand bus storage facility | 14,648,686
IA | City of Iowa City | D2026-BUSC-022 and D2026-BUSC-023 | Purchase replacement buses and paratransit vehicles | 8,665,485
IA | Iowa Department of Transportation | D2026-BUSC-024 | Purchase replacement buses | 27,834,685
IL | Bloomington-Normal Public Transit System (dba Connect Transit) | D2026-BUSC-025 | Construct transit center | 5,000,000
KY | Kentucky Transportation Cabinet | D2026-BUSC-026 | Purchase replacement and expansion vehicles, and purchase and rehabilitate bus facilities | 12,363,501
KY | Transit Authority of River City | D2026-BUSC-027 | Rehabilitate and expand bus maintenance facility | 2,624,000
KY | Transit Authority of the Lexington-Fayette Urban County Government | D2026-BUSC-028 | Purchase replacement paratransit vehicles | 1,200,000
LA | Jefferson Transit | D2026-BUSC-029 | Rehabilitate bus stops | 2,975,000
MA | Berkshire Regional Transit Authority | D2026-BUSC-030 | Rehabilitate bus facility and purchase equipment | 3,000,000
MA | Pioneer Valley Transit Authority | D2026-BUSC-031 | Rehabilitate bus garage | 4,475,955
MD | Maryland Transit Administration obo Charles County Government | D2026-BUSC-032 | Construct maintenance and operations facility | 10,000,016
ME | Greater Portland Transit District | D2026-BUSC-033 | Purchase replacement and expansion vehicles | 4,248,542
ME | Maine Department of Transportation | D2026-BUSC-034 | Purchase replacement vehicles and rehabilitate administration facility | 1,062,220
MI | Bay Mills Indian Community | D2026-BUSC-035 | Construct bus facility | 320,000
MI | Central County Transportation Authority | D2026-BUSC-036 | Purchase replacement buses | 972,000
MI | Michigan Department of Transportation | D2026-BUSC-037 | Purchase replacement buses, construct and rehabilitate bus facilities, and purchase equipment | 30,006,950
MI | Suburban Mobility Authority for Regional Transportation | D2026-BUSC-038 | Purchase replacement and expansion buses | 1,249,500
MN | Minnesota Department of Transportation | D2026-BUSC-039 | Purchase replacement buses | 7,360,000
MN | Minnesota Department of Transportation | D2026-BUSC-040 | Construct bus facilities | 6,170,462
MN | Minnesota Valley Transit Authority | D2026-BUSC-041 | Construct bus garage | 2,720,000
MS | City of Jackson | D2026-BUSC-042 | Rehabilitate bus stops | 2,800,000
MT | Crow Tribe of Indians | D2026-BUSC-043 | Construct new transit facility | 996,740
NY | Village of Kiryas Joel | D2026-BUSC-044 | Purchase expansion buses | 5,780,000
OH | Allen County Regional Transit Authority | D2026-BUSC-045 | Purchase replacement buses | 2,354,425
OK | Cherokee Nation | D2026-BUSC-046 | Construct transit facility | 10,010,220
OK | Choctaw Nation of Oklahoma | D2026-BUSC-047 | Purchase replacement buses | 3,730,140
OK | Oklahoma Department of Transportation | D2026-BUSC-048 | Purchase replacement buses | 4,468,088
OR | Oregon Department of Transportation obo Benton County | D2026-BUSC-049 | Purchase replacement and expansion buses | 833,000
OR | Oregon Department of Transportation obo Coos County Area Transportation District | D2026-BUSC-050 | Construct transit center | 8,839,155
OR | Oregon Department of Transportation obo Yamhill County-Yamhill County Transit Area (YCTA) | D2026-BUSC-051 | Purchase replacement buses | 1,921,000
SC | City of Spartanburg | D2026-BUSC-052 | Purchase replacement buses | 448,000
SD | City of Rapid City | D2026-BUSC-053 | Purchase replacement buses | 1,190,000
SD | City of Sioux Falls | D2026-BUSC-054 | Rehabilitate bus stops | 1,993,408
TN | Nashville Metropolitan Transit Authority | D2026-BUSC-055 | Purchase replacement buses | 10,000,001
TX | City of Amarillo | D2026-BUSC-056 | Purchase replacement buses | 5,440,000
TX | Denton County Transit Authority | D2026-BUSC-057 | Purchase replacement buses | 2,295,000
TX | Texas Department of Transportation | D2026-BUSC-058 and >D2026-BUSC-059 | Purchase replacement and expansion buses and construct operations and maintenance facility | 36,000,000
UT | Utah Transit Authority | D2026-BUSC-060 | Purchase replacement buses | 21,330,000
VA | Virginia Department of Rail and Public Transportation (DRPT) | D2026-BUSC-061 | Purchase replacement buses | 8,621,909
VT | Green Mountain Transit Authority | D2026-BUSC-062 | Purchase replacement buses and rehabilitate bus facility and bus stops | 4,755,647
WA | Skagit Transit | D2026-BUSC-063 | Purchase replacement and expansion buses | 9,368,858
WA | Washington State Department of Transportation obo Okanogan County Transit Authority (OCTA) | D2026-BUSC-064 | Construct administrative, operations, and maintenance facility | 9,237,473
WV | Kanawha Valley Regional Transportation Authority | D2026-BUSC-065 | Construct maintenance and operations facility | 21,254,847
WY | City of Cheyenne—Cheyenne Transit Program | D2026-BUSC-066 | Rehabilitate administration and operations facility and transit hub | 2,514,880
Total | 397,665,476

Table 2—FY 2025 and FY 2026 Low or No Emission Project Selections
[Note: Some projects have multiple project IDs.]
State | Recipient | Project ID | Project description | Award
AK | Fairbanks North Star Borough | D2026-LWNO-001 | Purchase replacement buses | $3,150,360
AL | City of Huntsville | D2026-LWNO-002 | Purchase replacement buses | 6,098,667
AZ | Regional Public Transportation Authority (Valley Metro) | D2026-LWNO-003 | Purchase replacement buses | 18,630,264
CA | California Department of Transportation obo Humboldt Transit Authority | D2026-LWNO-004 | Purchase replacement buses | 4,696,000
CA | City of Lynwood | D2026-LWNO-005 | Purchase replacement buses | 1,047,709
CA | City of Tracy | D2026-LWNO-006 | Purchase expansion buses | 7,140,000
CA | Culver City Municipal Bus Lines | D2026-LWNO-007 | Purchase replacement buses | 14,450,000
CA | Fresno, City of | D2026-LWNO-008 | Rehabilitate buses and fueling station * | 16,688,720
CA | Gold Coast Transit District | D2026-LWNO-009 | Purchase replacement buses and paratransit vehicles | 3,615,006
CA | Golden Empire Transit District | D2026-LWNO-010 | Purchase replacement buses and fueling infrastructure | 11,788,089
CA | Livermore Amador Valley Transit Authority | D2026-LWNO-011 | Purchase replacement buses and construct operations and maintenance facility | 63,951,145
CA | Marin County Transit District | D2026-LWNO-012 | Purchase replacement buses and rehabilitate operations facility | 5,640,020
CA | Monterey-Salinas Transit District | D2026-LWNO-013 | Purchase bus equipment * | 1,032,000
CA | Napa Valley Transportation Authority | D2026-LWNO-014 | Purchase replacement buses | 6,823,698
CA | North County Transit District (NCTD) | D2026-LWNO-015 | Purchase replacement buses | 16,774,170
CA | Redding Area Bus Authority | D2026-LWNO-016 | Purchase replacement buses * | 2,619,040
CA | Riverside Transit Agency | D2026-LWNO-017 | Purchase replacement buses * | 1,329,480
CA | Sacramento Regional Transit District (SacRT) | D2026-LWNO-018 | Purchase replacement buses | 39,670,302
CA | San Francisco Municipal Transportation Agency | D2026-LWNO-019 and D2026-LWNO-2020 | Purchase replacement buses | 39,800,000
CA | San Joaquin Regional Transit District (RTD) | D2026-LWNO-021 | Purchase replacement buses * | 10,327,500
CA | Santa Clara Valley Transportation Authority (VTA) | D2026-LWNO-022 | Purchase replacement vehicles * | 20,311,640
CO | City of Colorado Springs dba Mountain Metropolitan Transit | D2026-LWNO-023 | Purchase expansion buses | 7,623,000
CO | City of Fort Collins | D2026-LWNO-024 | Purchase replacement buses * | 4,838,610
CO | City of Pueblo | D2026-LWNO-025 | Purchase replacement and expansion buses | 15,687,944
CO | Colorado Department of Transportation obo City of Steamboat Springs Transit (SST) | D2026-LWNO-026 | Purchase replacement buses | 1,504,000
CO | Colorado Department of Transportation obo The Roaring Fork Transportation Authority (RFTA) | D2026-LWNO-027 | Purchase replacement buses | 3,745,800
CO | Mesa County | D2026-LWNO-028 | Purchase replacement buses | 2,097,033
CT | Connecticut Department of Transportation | D2026-LWNO-029 | Expand and rehabilitate transit facility * | 35,700,000
DC | Washington Metropolitan Area Transit Authority | D2026-LWNO-030 and D2026-LWNO-031 | Purchase replacement buses | 50,322,380
FL | Broward County Transit | D2026-LWNO-032 | Purchase replacement buses and equipment | 20,480,000
FL | City of Tallahassee | D2026-LWNO-033 | Purchase replacement buses and fueling station | 8,798,487
FL | Hillsborough Transit Authority (HART) | D2026-LWNO-034 | Purchase replacement buses | 32,037,390
FL | Palm Beach County Board of Commissioners | D2026-LWNO-035 | Purchase replacement buses | 7,200,000
FL | Pinellas Suncoast Transit Authority | D2026-LWNO-036 | Purchase bus equipment * | 6,580,000
GA | Cobb County | D2026-LWNO-037 | Purchase replacement and expansion buses and chargers | 6,632,101
GA | Metropolitan Atlanta Rapid Transit Authority (MARTA) | D2026-LWNO-038 | Purchase replacement buses | 20,735,040
IA | Iowa Department of Transportation | D2026-LWNO-039 | Purchase replacement buses and construct and expand transit facilities * | 19,892,534
IA | University of Iowa | D2026-LWNO-040 | Purchase replacement buses | 6,171,174
ID | Valley Regional Transit | D2026-LWNO-041 | Purchase fueling infrastructure | 5,053,440
IL | Chicago Transit Authority (CTA) | D2026-LWNO-042 and D2026-LWNO-043 | Purchase replacement buses | 121,125,000
IL | Pace, the Suburban Bus Division of the Regional Transportation Authority | D2026-LWNO-044 | Purchase replacement buses | 39,780,000
IN | Columbus Transit | D2026-LWNO-045 | Purchase replacement buses | 256,281
IN | Indianapolis Public Transportation Corporation (IndyGo) | D2026-LWNO-046 | Purchase replacement buses | 14,747,166
KS | City of Wichita | D2026-LWNO-047 | Purchase expansion buses and equipment * | 2,066,786
KY | Transit Authority of Northern Kentucky | D2026-LWNO-048 | Purchase replacement buses | 7,331,800
KY | Transit Authority of the Lexington-Fayette Urban County Government | D2026-LWNO-049 | Purchase replacement buses | 4,900,000
LA | Louisiana Governor's Office of Rural Development obo Rapides Area Planning Commission (RAPC) | D2026-LWNO-050 | Purchase replacement buses and construct maintenance and parking facilities * | 1,580,000
MA | Berkshire Regional Transit Authority | D2026-LWNO-051 | Purchase replacement buses and equipment | 5,381,341
MA | Lowell Regional Transit Authority | D2026-LWNO-052 | Purchase replacement buses | 7,158,564
MA | Massachusetts Bay Transportation Authority | D2026-LWNO-053 and D2026-LWNO-054 | Purchase replacement buses | 78,566,512
MA | Merrimack Valley Regional Transit Authority | D2026-LWNO-055 | Purchase expansion buses | 7,194,360
ME | Biddeford Saco Old Orchard Beach Transit | D2026-LWNO-056 | Purchase replacement buses | 1,537,650
MI | Capital Area Transportation Authority | D2026-LWNO-057 | Purchase replacement buses | 6,962,784
MI | Detroit Department of Transportation | D2026-LWNO-058 | Purchase replacement buses * | 50,854,529
MI | Interurban Transit Partnership | D2026-LWNO-059 | Purchase replacement buses | 7,523,235
MI | Michigan Department of Transportation | D2026-LWNO-060 | Purchase replacement buses | 12,053,626
MN | Metro Transit | D2026-LWNO-061 | Purchase replacement buses | 35,033,000
MN | Minnesota Department of Transportation | D2026-LWNO-062 | Purchase replacement and expansion buses and fueling infrastructure | 4,437,600
MN | Minnesota Valley Transit Authority | D2026-LWNO-063 | Purchase replacement buses | 8,000,000
MN | SouthWest Transit | D2026-LWNO-064 | Purchase replacement buses | 5,080,042
MN | St Cloud Metropolitan Transit Commission | D2026-LWNO-065 | Purchase replacement buses | 14,289,325
MO | City of Jefferson | D2026-LWNO-066 | Purchase replacement buses | 2,024,860
NC | Cape Fear Public Transportation Authority | D2026-LWNO-067 | Purchase replacement buses | 1,020,000
NC | City of Winston-Salem/Winston-Salem Transit Authority | D2026-LWNO-068 | Purchase replacement buses | 5,068,887
NE | Regional Metropolitan Transit Authority of Omaha d/b/a Metro | D2026-LWNO-069 | Purchase replacement buses | 4,932,259
NM | City of Santa Fe | D2026-LWNO-070 | Purchase replacement buses | 3,844,125
NM | New Mexico Department of Transportation obo South Central Regional Transit District (SCRTD) | D2026-LWNO-071 | Purchase expansion buses | 4,049,179
NV | Regional Transportation Commission of Washoe County | D2026-LWNO-072 | Purchase replacement buses | 21,551,453
NY | Capital District Transportation Authority | D2026-LWNO-073 | Purchase replacement buses and equipment | 31,787,140
NY | Nassau County NY—Nassau Inter County Express | D2026-LWNO-074 | Purchase replacement buses and rehabilitate maintenance facility | 42,000,000
NY | New York State Metropolitan Transportation Authority | D2026-LWNO-100 and D2026-LWNO-101 | Rehabilitate facility | 11,965,000
NY | The Central New York Regional Transportation Authority | D2026-LWNO-102 | Purchase expansion buses | 9,280,000
OH | Central Ohio Transit Authority | D2026-LWNO-103 | Purchase expansion buses and rehabilitate bus garage | 19,906,459
OH | Metro Regional Transit Authority (METRO RTA) | D2026-LWNO-104 | Purchase replacement buses | 9,741,172
OH | Southwest Ohio Regional Transit Authority (SORTA) | D2026-LWNO-105 | Purchase replacement buses | 11,498,030
OR | Oregon Department of Transportation obo Umpqua Public Transportation District | D2026-LWNO-106 | Purchase replacement buses | 2,295,000
PA | Pennsylvania Department of Transportation | D2026-LWNO-107 | Purchase replacement buses | 2,000,000
PA | Southeastern Pennsylvania Transportation Authority | D2026-LWNO-108 | Purchase replacement buses | 43,000,000
RI | Rhode Island Public Transit Authority | D2026-LWNO-109 | Purchase replacement buses | 25,000,000
SC | Central Midlands Regional Transit Authority | D2026-LWNO-110 | Purchase replacement buses | 15,750,000
SC | Greenville Transit Authority dba Greenlink | D2026-LWNO-111 | Purchase expansion buses and equipment * | 3,304,336
SC | The Waccamaw Regional Transportation Authority (d/b/a Coast RTA) | D2026-LWNO-112 | Purchase replacement buses and construct bus maintenance, operations, and transit center facilities | 25,538,000
SD | South Dakota Department of Transportation | D2026-LWNO-113 | Purchase replacement and expansion buses | 1,101,750
TN | Chattanooga Area Regional Transportation Authority | D2026-LWNO-114 | Purchase replacement and expansion buses and paratransit vehicles, and equipment * | 757,486
TN | University of Tennessee | D2026-LWNO-115 | Purchase replacement and expansion buses | 9,801,300
TX | Brazos Transit District | D2026-LWNO-116 | Purchase replacement buses | 18,900,000
TX | City of El Paso Mass Transit Department—Sun Metro | D2026-LWNO-117 | Purchase replacement buses | 1,963,500
TX | City of Lubbock/Citibus | D2026-LWNO-118 | Purchase replacement buses | 26,250,000
TX | City of San Marcos | D2026-LWNO-119 | Purchase replacement buses | 1,762,476
TX | Corpus Christi Regional Transportation Authority | D2026-LWNO-120 | Construct maintenance facility | 46,280,000
TX | Dallas Area Rapid Transit (DART) | D2026-LWNO-121 | Purchase replacement buses | 7,094,000
TX | Fort Bend County | D2026-LWNO-122 | Purchase replacement and expansion buses, and rehabilitate maintenance facility | 13,747,775
TX | Metropolitan Transit Authority of Harris County (METRO) | D2026-LWNO-123 | Purchase replacement buses and rehabilitate maintenance facility | 100,728,336
UT | Utah Transit Authority | D2026-LWNO-124 | Purchase replacement buses | 20,475,200
VA | City of Alexandria | D2026-LWNO-125 | Purchase replacement buses | 10,939,552
VT | Green Mountain Transit Authority | D2026-LWNO-126 | Purchase replacement buses and fueling infrastructure | 2,064,459
WA | City of Everett (DBA Everett Transit) | D2026-LWNO-127 | Purchase replacement buses | 10,071,054
WA | Pierce County Public Transportation Benefit Area Corporation (DBA Pierce Transit) | D2026-LWNO-128 | Purchase replacement buses | 6,704,881
WA | Snohomish County Public Transportation Benefit Area Corporation | D2026-LWNO-129 | Purchase replacement buses | 13,987,608
WA | Thurston County Public Transportation Benefit Area (DBA Intercity Transit) | D2026-LWNO-130 | Purchase replacement buses | 17,551,815
WA | Washington State Department of Transportation obo Grant Transit Authority | D2026-LWNO-131 | Purchase replacement and expansion buses * | 3,852,628
WA | Whatcom Transportation Authority (WTA) | D2026-LWNO-132 | Purchase replacement buses | 16,717,842
WI | City of Madison | D2026-LWNO-133 | Purchase replacement buses * | 17,432,700
Total | 1,630,282,606
* Consistent with the NOFO, FTA prioritized low-emission projects over zero-emission projects in the Low-No Program. Only low-emission elements of projects identified with an asterisk are selected.

[FR Doc. 2026-00643 Filed 1-14-26; 8:45 am]

BILLING CODE 4910-57-P